DEPARTMENT OF COMMERCE

National Oceanic and Atmospheric Administration

50 CFR Part 648

[Docket No.: 0910051338-0167-03]

RIN 0648-AY29

Fisheries of the Northeastern United States; Northeast Multispecies Fishery; Revisions to Framework Adjustment 44 to the Northeast Multispecies Fishery Management Plan and Sector Annual Catch Entitlements: Updated Annual Catch Limits for Sectors and the Common Pool for Fishing Year 2010

AGENCY: National Marine Fisheries Service (NMFS), National Oceanic and Atmospheric Administration (NOAA), Commerce.

ACTION: Temporary rule; adjustment to specifications.

SUMMARY: Based on finalized Northeast (NE) multispecies sector rosters submitted on April 30, 2010, NMFS announces adjustments to the NE multispecies fishing year (FY) 2010 specification of annual catch limits (ACLs) for common pool vessels (common pool sub-ACLs), ACLs for sector vessels (sector sub-ACLs), and sector Annual Catch Entitlements (ACEs) for each of the 20 groundfish stocks managed under the NE Multispecies Fishery Management Plan (FMP). This revision to catch levels is necessary because some vessel owners have chosen to drop out of sectors and fish in the common pool for FY 2010.

DATES: Effective May 21, 2010 through April 30, 2011.

FOR FURTHER INFORMATION CONTACT: Travis Ford, Fishery Management Specialist, (978) 281-9233.

SUPPLEMENTARY INFORMATION: Pursuant to the Magnuson-Stevens Fishery Conservation and Management Act and Amendment 16 to the FMP (75 FR 18262; April 9, 2010), Framework Adjustment 44 (FW 44) to the FMP, which was published in the Federal Register on April 9, 2010 (75 FR 18356), specified catch levels for 20 NE groundfish stocks for FY 2010-2012. Catch levels were specified for various components of the groundfish fishery, including sub-ACLs for the common pool and sectors. These sub-ACLs were set based on the catch history of the vessels enrolled in sectors, as of January 22, 2010. A final sector rule that also published on April 9, 2010, (75 FR 18113; sector rule), approved sector operation plans and allocated ACE to sectors for FY 2010. The sector rule included FY 2010 sector sub-ACL information also reflected in FW 44, where the sum of the ACEs for each sector equals the sector sub-ACL. To provide increased flexibility to the fishing industry, NMFS allowed vessels that were initially enrolled in sectors for FY 2010 to drop out and join the common pool through April 30, 2010. Because the sector ACEs, as well as the sector sub-ACLs (sum of ACEs for all sectors) and the common pool sub-ACL (groundfish sub-ACL minus sector sub-ACL), are based upon the specific membership of sectors, the change in membership between January 22, 2010, and May 1, 2010, requires that the sector ACEs, and sub-ACLs for the common pool and sectors, be revised. Based on the April 30, 2010, finalized sector rosters, this rule adjusts the FY 2010 sector ACEs and sub-ACLs for common pool and sectors.

The preamble of the final rule implementing FW 44 informed the public that “NMFS intends to publish a rule in early May 2010 to modify the common pool and sector sub-ACLs and notify the public, if these numbers change.” Through this temporary final rule, NMFS is specifying revised ACEs for all approved sectors, and revised sub-ACLs for common pool and sector vessels based on the finalized sector rosters. The final number of vessels electing to fish in sectors for FY 2010 is 762 (reduced by 50 vessels since the January 22, 2010 roster). All ACE and sub-ACL values for sectors assume that each sector MRI has a valid permit for FY 2010.

Tables 1, 2, and 3 contain the amount of ACE for each sector and stock, as a percentage and absolute amount (in metric tons and pounds), based on the final rosters.

BILLING CODE 3510-22-P

BILLING CODE 3510-22-C

Table 4 compares the preliminary FY 2010 sub-ACLs for common pool and sector vessels from FW 44, with the current revised sub-ACLs based on the final sector rosters.

Table 4—Total ACLs, Sub-ACLs, and ACL-subcomponents for FY 2010 (mt) *
Stock | Groundfish total | Preliminary common pool sub-ACL | Preliminary sector sub-ACL | Revised common pool sub-ACL | Revised sector sub-ACL
GB cod | 3,430 | 103 | 3,327 | 128 | 3,302
GOM cod | ** 7,240 | 178 | 4,389 | 240 | 4,327
GB haddock | 40,440 | 202 | 40,238 | 254 | 40,186
GOM haddock | ** 1,149 | 13 | 812 | 26 | 799
GB yellowtail flounder | 964 | 21 | 943 | 23 | 941
SNE/MA yellowtail flounder | 310 | 63 | 247 | 75 | 235
CC/GOM yellowtail flounder | 779 | 31 | 748 | 50 | 729
American plaice | 2,848 | 71 | 2,777 | 100 | 2,748
Witch flounder | 852 | 19 | 833 | 25 | 827
GB winter flounder | 1,852 | 26 | 1,826 | 29 | 1,823
GOM winter flounder | † 158 | 20 | 138 | 25 | 133
SNE winter flounder | 520 | 520 | 0 | 520 | 0
Redfish | † 6,846 | 62 | 6,786 | 90 | 6,756
White hake | † 2,556 | 44 | 2,522 | 51 | 2,505
Pollock | 2,748 | 47 | 2,701 | 62 | 2,686
N. window | 110 | 110 | 0 | 110 | 0
S. window | 154 | 154 | 0 | 154 | 0
Ocean pout | 239 | 239 | 0 | 239 | 0
Halibut | 30 | 30 | 0 | 30 | 0
Wolffish | 73 | 73 | 0 | 73 | 0
* All sub-ACL values for sectors outlined in Table 4 assume that each sector MRI has a valid permit for FY 2010.
** This contains the recreational sub-ACL as specified in FW 44 (75 FR 18356; April 9, 2010).
† Changed from FW 44 Final Rule due to minor differences in calculations.

The sub-ACLs for individual groundfish stocks have changed from between 0 mt and 62 mt. The sub-ACLs for stocks in sectors have decreased between 0.18% and 4.99%, with GOM cod having the largest actual decrease of 62 mt (1.4%) and SNE/MA yellowtail flounder having the greatest percentage decrease of 4.99% (12 mt). The sub-ACLs for stocks in the common pool have increased between 11% and 101%, with CC/GOM yellowtail flounder and GOM haddock having the greatest increases of 60% and 101%, respectively. Other notable increases include: GOM cod increasing 35% (62 mt) and redfish increasing by 45% (28 mt).

FW 44 specifies incidental catch TACs applicable to the NE multispecies Special Management Programs for FY 2010-2012, based on the ACLs, the FMP, and advice from the Council. Incidental catch TACs are specified for certain stocks of concern for common pool vessels fishing in the Special Management Programs, in order to limit the amount of catch of stocks of concern that can be caught under such programs. Since these incidental catch TACs are based on the sub-ACLs for the common pool, they have changed based on the revised sub-ACLs. The incidental catch TACs were based upon the council's September 2009 Environmental Assessment and were not revised based on the January 2010 roster, so they are decreasing when compared with those of the April 9 final rule.

Table 5—Incidental Catch TACs by Stock for FY 2010-2010 (mt)
Stock | Percentage of sub-ACL | Final rule 2010 incidental catch TAC | Revised 2010 incidental catch TAC
GB cod | 2 | 3.5 | 2.55
GOM cod | 1 | 3.4 | 2.40
GB yellowtail flounder | 2 | 0.4 | 0.47
CC/GOM yellowtail flounder | 1 | 0.5 | 0.50
SNE/MA yellowtail flounder | 1 | 0.6 | 0.75
American plaice | 5 | 9.2 | 5.00
Witch flounder | 5 | 2.1 | 1.23
SNE/MA winter flounder | 1 | 5.2 | 5.20
GB winter flounder | 2 | 1.1 | 0.58
White hake | 2 | 2.4 | 1.02
Pollock | 2 | 2.4 | 1.24

Table 6-Incidental Catch TACs for Special Management Programs by Stock for FY 2010—2012 (mt)
Stock | Regular B DAS program: Final rule 2010 | Regular B DAS program: Revised 2010 | Closed area I hook gear haddock SAP: Final rule 2010 | Closed area I hook gear haddock SAP: Revised 2010 | Eastern U.S./Canada haddock SAP: Final rule 2010 | Eastern U.S./Canada haddock SAP: Revised 2010
GB cod | 1.75 | 1.28 | 1.75 | 1.28 | 0 | 0
GOM cod | 3.4 | 2.40 |  |  |  |
GB yellowtail flounder | 0.4 | 0.47 |  |  | 0 | 0
CC/GOM yellowtail flounder | 0.5 | 0.50 |  |  |  |
SNE/MA yellowtail flounder | 0.9 | 0.75 |  |  |  |
American plaice | 9.2 | 5.00 |  |  |  |
Witch flounder | 2.1 | 1.23 |  |  |  |
SNE/MA winter flounder | 1.1 | 5.20 |  |  |  |
GB winter flounder | 1.1 | 0.58 |  |  | 0 | 0
White hake | 5.2 | 1.02 |  |  |  |
Pollock | 2.0 | 1.04 | 0.4 | 0.2 | 0 | 0

Classification

NMFS has determined that this action is consistent with the FMP, the Magnuson-Stevens Act and other applicable law.

This action is required by 50 CFR part 648 and is exempt from review under Executive Order 12866.

Pursuant to 5 U.S.C. 553(b)(B) and (d)(3), there is good cause to waive prior notice and opportunity for public comment, as well as the delayed effectiveness for this action, because notice, comment, and a delayed effectiveness would be impractical and contrary to the public interest. If the sector ACEs and sub-ACLs are not adjusted immediately, the time period during which the fishery will be operating under incorrect catch specifications will be prolonged. Specifically, the common pool would be allocated insufficient fish, and vessels fishing in sectors would be allocated excessive fish.

The implications of delaying the date on which the specifications are corrected depends upon the size of the ACE and sub-ACL, the size of the change in specification relative to the ACE and sub-ACL, and the rate of catch of the particular stock. If, for example, a sector were catching a particular stock at a high rate, and one for which they have a small ACE, and this rule makes a substantial change to the sector's ACE for that stock, a significant fraction of the ACE could be harvested between the start of the May 1, 2010 FY, and the date the ACE is adjusted downward. The catch associated with vessels fishing in sectors could be excessive, and the catch associated with vessels fishing in the common pool may be unnecessarily constrained. In the worst case scenario, excessive catch by sectors could lead to a sector catching more than its ACE for the FY. Constrained catch could cause negative economic impacts to the common pool.

Further, a longer period of time between the start of the May 1, 2010 FY and the time of ACL adjustment would increase the uncertainty in the fishery, and could cause disruption to the fishing industry when the sub-ACLs are adjusted, especially for stocks where the sub-ACLs are very low relative to historic catch levels. Vessel owners and crews, and businesses dependent upon the groundfish fishery, are already experiencing considerable uncertainty, given the implementation of multiple new management elements in the fishery (e.g., many sectors, restrictive ACLs, and additional fishing effort reductions) that became effective May 1, 2010. Additional sources of uncertainty, therefore, should be minimized where possible. Fishermen may make business decisions based on the ACLs in a given sector or the common pool; thus, it is important to implement adjusted ACEs and sub-ACLs as soon as possible. FW 44, which was open to public comment, notified the public that modification to sub-ACLs for the common pool and sectors would be likely based on the expectation that sector rosters would change (be reduced).

Authority: 16 U.S.C. 1801 et seq.

Dated: May 19, 2010.
John Oliver,
Deputy Assistant Administrator for Operations, National Marine Fisheries Service.

[FR Doc. 2010-12657 Filed 5-21-10; 4:15 pm]

BILLING CODE 3510-22-P